ELECTION ASSISTANCE COMMISSION

Information Collection Activity; Survey of Registered Voters—Study of the Feasibility and Advisability of Establishing a Program of Free Return or Reduced Postage for Absentee Ballots

AGENCY: U.S. Election Assistance Commission (EAC).

ACTION: Notice and request for comments.

SUMMARY: The U.S. Election Assistance Commission has submitted the following information collection request to the Office of Management and Budget (OMB) for review and clearance in accordance with the Paperwork Reduction Act of 1995. The information collection was previously published in the Federal Register on January 23, 2007, at 72 FR 2875. The notice allowed for a 60-day public comment period. Only one comment was received on this information collection during that time period, and changes were made to the collection instrument to improve and clarify the data being collected, including six new questions. The purpose of this notice is to allow an additional 30 days for public comments. Comments are encouraged and will be accepted until June 18, 2007. This process is conducted in accordance with 5 CFR 1320.10. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Written comments must be submitted on or before June 18, 2007.

ADDRESSES: Written comments and recommendations on the proposed information collection should be sent to:

OMB Reviewer: Alexander T. Hunt, Office of Management and Budget, Room 10235, New Executive Office Building, Washington, DC 20503, (202) 395-7316.

FOR FURTHER INFORMATION CONTACT: To request more information on this proposed information collection or to obtain a copy of the proposal and associated collection instruments, please, write to the above address or call Ms. Karen Lynn-Dyson at (202) 566-3100.

SUPPLEMENTARY INFORMATION: Title: Study of the Feasibility and Advisability of Establishing a Program of Free Return or Reduced Postage for Absentee Ballots—Survey of Registered Voters.

OMB Number: Pending.

Type of Review: Regular submission.

Needs and Uses: Sec. 246 of the Help America Vote Act requires the Election Assistance Commission (EAC), in consultation with the United States Postal Service, to conduct a study of the feasibility and advisability of establishing a program under which the U.S. Postal Service shall waive or otherwise reduce the amount of postage applicable with respect to absentee ballots returned by voters in general elections for Federal office. This study does not address the cost to the U.S. Postal Service for free postage for sending absentee ballots but may consider costs to election officials that are related to implementing such a program including the costs of sending absentee ballots to voters. It also does not include consideration of the 39 U.S.C. 3406 provisions for the mailing of balloting materials for military and overseas absentee voters. As part of the study the Commission is directed to conduct a survey of potential beneficiaries, including the elderly and disabled, and to take into account the results of this survey in determining the feasibility and advisability of establishing such a program. At the conclusion of the study effort, EAC is required to submit a report to Congress with recommendations for such legislative and administrative action as EAC determines appropriate. The report shall contain an analysis of the feasibility of implementing such a program and an estimate of the costs.

Affected Public: U.S. Citizens.

Number of Respondents: 1,200.

Responses per Respondent: 1.

Estimated Burden per Response: .25 hours.

Estimated Total Annual Burden Hours: 300 hours.

Information will be collected through a survey of U.S. citizens to determine the possible effect that a free and/or reduced cost absentee ballot postage program would have on voter participation. The sample will be designed in such a way so as to afford analysis of the results according to significant sub-groups including those living in states with high versus low rates of absentee voting and states with restrictive versus states with laws favoring absentee voting. The surveys will be representative of the U.S. population in the fifty U.S. states and will be conducted by phone using random digit dialing (RDD) technology. Within each contacted household, a respondent will be selected among all adults in the household aged 18 years and older. The following information will be requested from each respondent.

1. Background Information

The survey will gather data regarding each respondent's background. Background information will include, the respondent's location, the location of the respondent's voter registration, age, ethnicity, education, income bracket, whether the respondent is living with a disability, and whether the respondent is currently an active-duty member of the armed forces (or a dependent thereof).

2. Voting Information

The survey will gather data regarding the respondent's voting history. Voting information will include, registration status, whether the respondent voted in the 2006 Congressional election, whether the respondent voted in the 2004 Presidential election, whether the respondent voted in the 2000 Presidential election, the method the respondent voted in past elections (in person, by mail, absentee), whether the respondent is eligible to vote absentee (or whether the respondent does not know).

3. Program Effect

The survey will gather data from all respondents regarding the various effects that the establishment of this program would have on the targeted citizens. Questions on the program will cover (1) Whether the program will increase the likelihood that the respondent would use the absentee ballot process; (2) whether the program will increase the likelihood that the respondent would vote in a federal election; (3) whether the program will make it easier for the voter to participate in elections.

Thomas R. Wilkey,
Executive Director, U.S. Election Assistance Commission.

[FR Doc. 07-2465 Filed 5-17-07; 8:45 am]

BILLING CODE 6820-KF-M